DEPARTMENT OF THE INTERIOR

Bureau of Land Management

[WY-957-02-9820-BJ-WY01]

Notice of Filing of Plats of Survey, Nebraska

AGENCY: Bureau of Land Management, Interior.

ACTION: Notice of filing of plats of survey, Nebraska.

SUMMARY: The Bureau of Land Management (BLM) has filed the plats of survey of the lands described below in the BLM Wyoming State Office, Cheyenne, Wyoming, on December 31, 2002.

FOR FURTHER INFORMATION CONTACT: Bureau of Land Management, 5353 Yellowstone Road, P.O. Box 1828, Cheyenne, Wyoming 82003.

SUPPLEMENTARY INFORMATION: These surveys were executed at the request of the U.S. Forest Service, and are necessary for the management of resources. The lands surveyed are:

The plat representing the dependent resurvey of portions of the east and south boundaries, and a portion of the subdivisional lines, Township 34 North, Range 54 West, Sixth Principal Meridian, Nebraska, was accepted December 31, 2002.

Copies of the preceding described plats are available to the public.

Dated: January 22, 2003.
John P. Lee,
Chief Cadastral Surveyor, Division of Support Services.

[FR Doc. 03-1951 Filed 1-28-03; 8:45 am]

BILLING CODE 4310-22-P